ELECTION ASSISTANCE COMMISSION

Sunshine Act Meetings

AGENCY: Election Assistance Commission

DATE AND TIME: Tuesday, July 28, 2015 at 1:00 p.m.

PLACE: The Grand Hyatt Hotel, 1000 H St NW., Washington, DC 20001, Phone: (202) 582-1234.

STATUS: This meeting will be open to the public.

ITEMS FOR DISCUSSION:

• EAC Transition Report Regarding Accessibility Awareness

• Disability Research

• Disability Access and Study of Online Voter Registration

• Disability Rights—Technical Assistance to Election Officials and Poll Worker Training Materials

• Voting and the Visually Impaired

• 2014 Election Administration and Voting Survey (EAVS)

• Advisory Opinions

• EAC Future VVSG Working Group White Paper: The Goals for Future Federal Voting System Standards Development Efforts

AGENDA: The Commission will receive a presentation on an EAC Transition Report regarding accessibility awareness. The Commission will receive presentations on the following topics: Disability Research; Disability Access and Study of Online Voter Registration; Disability Rights and Technical Assistance to Election Officials and Poll Worker Training Materials; and Voting and the Visually Impaired. The Commission will receive a presentation on the 2014 Election Administration and Voting Survey (EAVS). The Commission may consider future development goals of the voluntary voting system guidelines (VVSG) presented in a Future VVSG Working Group White Paper. The Commission will consider advisory opinions. The Commission may consider other administrative matters.

PERSON TO CONTACT FOR INFORMATION: Bryan Whitener, Telephone: (301) 563-3961.

Submitted: July 20, 2015.
Bryan Whitener,
Director of Communications & Clearinghouse.

[FR Doc. 2015-18099 Filed 7-20-15; 4:15 pm]

BILLING CODE 6820-KF-P